DEPARTMENT OF COMMERCE

International Trade Administration

[A-520-804]

Certain Steel Nails From the United Arab Emirates: Preliminary Results of Antidumping Duty Administrative Review, and Partial Rescission; 2021-2022

AGENCY: Enforcement and Compliance, International Trade Administration, U.S. Department of Commerce.

SUMMARY: The U.S. Department of Commerce (Commerce) is conducting an administrative review of the antidumping duty order on certain steel nails (steel nails) from the United Arab Emirates (UAE). The period of review (POR) is May 1, 2021, through April 30, 2022. Commerce preliminarily finds that sales of steel nails from the UAE were made at less than normal value (NV). We invite interested parties to comment on these preliminary results.

DATES: Applicable June 5, 2023.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On July 14, 2022, Commerce initiated an administrative review of the antidumping duty order on steel nails from the UAE,¹ in accordance with section 751(a) of the Tariff Act of 1930, as amended (the Act),² with respect to 18 producers/exporters of the subject merchandise.³ Commerce selected two mandatory respondents for individual examination: Master Nails and Pins Manufacturing, LLC (Master Nails)/Middle East Manufacturing Steel LLC (MEM) (collectively, Master) and Rich Well Steel Industries LLC (Rich Well).⁴ On January 12, 2023, Commerce extended the deadline for the preliminary results of this administrative review until May 31, 2023.⁵ For details regarding the events that occurred subsequent to the initiation of the review, see the Preliminary Decision Memorandum.⁶

¹ See Certain Steel Nails from the United Arab Emirates: Amended Final Determination of Sales at Less Than Fair Value and Antidumping Duty Order, 77 FR 27421 (May 10, 2012) (Order).

² See Initiation of Antidumping and Countervailing Duty Administrative Reviews, 87 FR 42144 (July 14, 2022) (Initiation Notice); see also Initiation of Antidumping and Countervailing Duty Administrative Reviews, 87 FR 48459 (August 9, 2022) (correcting certain names contained in the Initiation Notice).

³ Commerce previously determined that Master Nails and MEM comprise a single entity. See Certain Steel Nails from the United Arab Emirates: Final Results of Antidumping Duty Administrative Review; 2020-2021, 87 FR 61566 (October 12, 2022).

⁴ See Memorandum “Respondent Selection,” dated August 2, 2022.

⁵ See Memorandum, “Extension of Deadline for Preliminary Results of 2021-2022 Antidumping Duty Administrative Review,” dated January 12, 2023.

⁶ See Memorandum, “Decision Memorandum for the Preliminary Results of the Administrative Review of the Antidumping Duty Order: Certain Steel Nails from the United Arab Emirates; 2021-2022,” dated concurrently with, and hereby adopted by, this notice (Preliminary Decision Memorandum).

Scope of the Order

The products covered by the Order are steel nails from the UAE. For a full description of the scope, see the Preliminary Decision Memorandum.

Rescission of Administrative Review, in Part

Pursuant to 19 CFR 351.213(d)(1), Commerce will rescind an administrative review, in whole or in part, if a party who requested the review withdraws the request within 90 days of the date of publication of the notice of initiation. Commerce received a timely-filed withdrawal request from the petitioner relating to 16 companies.⁷ Because the withdrawal request was timely filed, and no other party requested a review of these companies, in accordance with 19 CFR 351.213(d)(1), Commerce is rescinding this review with respect to the following companies: (1) Al Falaq Building Materials; (2) Al Khashab Building Materials Co., LLC; (3) Al Rafaa Star Building Materials Est.; (4) Al Sabbah Trading and Importing, Est.; (5) All Ferro Building Materials, LLC; (6) Asgar Ali Yousif Trading Co., LLC; (7) Azymuth Consulting, LLC; (8) Burj Al Tasmeem, Tr.; (9) Dubai Wire FZE; (10) Gheewala Hardware Trading Company, LLC; (11) New World International, LLC; (12) Okzeela Star Building Materials Trading, LLC; (13) Samrat Wire Industry, LLC; (14) SK Metal International DMCC; (15) Steel Racks Factory, LLC; and (16) Trade Circle Enterprises, LLC.⁸

⁷ The petitioner is Mid Continent Steel & Wire, Inc.

⁸ See Petitioner's Letter, “Withdrawal of Request for Administrative Review,” dated October 12, 2022.

Methodology

Commerce is conducting this review in accordance with section 751(a) of the Act. We calculated export price in accordance with section 772 of the Act. We calculated NV in accordance with section 773 of the Act.

For a full description of the methodology underlying these preliminary results, see the Preliminary Decision Memorandum. A list of topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Preliminary Results of Review

We preliminarily determine that the following weighted-average dumping margins exist for the period May 1, 2021, through April 30, 2022:

Exporter/producer | Weighted- average dumping margin (percent)
Master Nails and Pins Manufacturing, LLC/Middle East Manufacturing Steel, LLC | 4.30
Rich Well Steel Industries LLC | 2.28

Assessment Rates

Upon completion of this administrative review, Commerce shall determine, and U.S. Customs and Border Protection (CBP) shall assess, antidumping duties on all appropriate entries covered by this review.⁹ Pursuant to 19 CFR 351.212(b)(1) if the weighted-average dumping margin for Master or Rich Well is not zero or de minimis (i.e., less than 0.5 percent) in the final results of this review, we will calculate importer-specific ad valorem antidumping duty assessment rates based on the ratio of the total amount of dumping calculated for the importer's examined sales to the total entered value of those same sales. If either respondent's weighted-average dumping margin is zero or de minimis, we intend to instruct CBP to liquidate the appropriate entries without regard to antidumping duties. The final results of this review shall be the basis for the assessment of antidumping duties on entries of merchandise covered by this review and for future deposits of estimated duties, where applicable.¹⁰

⁹ See 19 CFR 351.212(b)(1).

¹⁰ See section 751(a)(2)(C) of the Act.

In accordance with Commerce's “automatic assessment” practice, for entries of subject merchandise during the POR produced by Master or Rich Well where the respondent did not know that the merchandise was destined for the United States, we will instruct CBP to liquidate those entries at the all-others rate if there is no rate for the intermediate company(ies) involved in the transaction.¹¹

¹¹ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this administrative review, except if the rate is less than 0.50 percent and, therefore, de minimis within the meaning of 19 CFR 351.106(c)(1), in which case the cash deposit rate will be zero; (2) for merchandise exported by a company not covered in this review, but covered in a prior segment of the proceeding, the cash deposit rate will continue to be the company-specific rate published for the most recently-completed segment of this proceeding in which it was reviewed; (3) if the exporter is not a firm covered by this review, a prior review, or the original less-than-fair-value (LTFV) investigation, but the producer is, then the cash deposit rate will be the rate established for the most recently-completed segment of this proceeding for the producer of the merchandise; and (4) the cash deposit rate for all other producers or exporters will continue to be 4.30 percent,¹² the all-others rate established in the LTFV investigation. These cash deposit requirements, when imposed, shall remain in effect until further notice.

¹² See Order, 77 FR at 27422.

Disclosure and Public Comment

We intend to disclose the calculations performed to parties within five days after public announcement of the preliminary results or, if there is no public announcement, within five days of the publication of this notice.¹³ Pursuant to 19 CFR 351.309(c), interested parties may submit case briefs no later than seven days after the date on which the last verification report is issued in this review. Rebuttal briefs, limited to issues raised in the case briefs, may be filed not later than seven days after the date for filing case briefs.¹⁴ Parties who submit case briefs or rebuttal briefs in this proceeding are encouraged to submit with each argument: (1) a statement of the issue; (2) a brief summary of the argument; and (3) a table of authorities.¹⁵ Case and rebuttal briefs should be filed using ACCESS ¹⁶ and must be served on interested parties.¹⁷ Executive summaries should be limited to five pages total, including footnotes. Note that Commerce has modified certain of its requirements for serving documents containing business proprietary information, until further notice.¹⁸

¹³ See 19 CFR 351.224(b).

¹⁴ See 19 CFR 351.309(d); see also Temporary Rule Modifying AD/CVD Service Requirements Due to COVID-19; Extension of Effective Period, 85 FR 41363 (July 10, 2020) (Temporary Rule).

¹⁵ See 19 CFR 351.309(c)(2) and (d)(2).

¹⁶ See generally 19 CFR 351.303.

¹⁷ See 19 CFR 351.303(f).

¹⁸ See Temporary Rule.

Interested parties who wish to request a hearing must submit a written request to the Assistant Secretary for Enforcement and Compliance, filed electronically via ACCESS.¹⁹ Requests should contain: (1) the party's name, address, and telephone number; (2) the number of participants; and (3) a list of issues to be discussed. Issues raised in the hearing will be limited to those raised in the respective case and rebuttal briefs. If a request for a hearing is made, Commerce intends to hold the hearing at a time and date to be determined. A hearing request must be filed electronically using ACCESS and received in its entirety by 5:00 p.m. Eastern Time within 30 days after publication of this notice.

¹⁹ See 19 CFR 351.310(c).

Verification

As provided in section 782(i)(3) of the Act, Commerce intends to verify the information relied upon in making its final determination.

Final Results of Review

Unless otherwise extended, Commerce intends to issue the final results of this administrative review, including the results of its analysis of the issues raised in any written briefs, not later than 120 days after the date of publication of this notice, pursuant to section 751(a)(3)(A) of the Act and 19 CFR 351.213(h)(1).

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these results in accordance with sections 751(a)(1) and 777(i)(1) of the Act, and 19 CFR 351.213 and 19 CFR 351.221(b)(4).

Dated: May 26, 2023.
Lisa W. Wang,
Assistant Secretary for Enforcement and Compliance.

Appendix—List of Topics Discussed in the Preliminary Decision Memorandum

I. Summary

II. Background

III. Scope of the Order

IV. Discussion of the Methodology

V. Currency Conversion

VI. Recommendation

[FR Doc. 2023-11842 Filed 6-2-23; 8:45 am]

BILLING CODE 3510-DS-P